DEPARTMENT OF THE TREASURY

Submission for OMB Review; Comment Request

January 9, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 15, 2008 to be assured of consideration.

Internal Revenue Service (IRS)

OMB Number: 1545-1925.

Type of Review: Revision.

Title: REG-125628-01 (Final) Revision of Income Tax Regulations under Sections 358, 367, 884, and 6038B dealing with statutory mergers or consolidations under section 368(a)(1)(A).

Description: The regulations provide rules regarding the merger or consolidation of domestic or foreign corporations.

Respondents: Businesses or other for-profit institutions.

Estimated Total Burden Hours: 50 hours.

OMB Number: 1545-0200.

Type of Review: Extension.

Title: Application for Determination for Adopters of Master or Prototype or Volume Submitter Plans.

Form: 5307.

Description: This form is filed by employers or plan administrators who have adopted a prototype plan approved by the IRS National Office or a regional prototype plan approved by the IRS District Director to obtain a ruling that the plan adopted is qualified under IRC sections 401(a) and 501(a). It may not be used to request a letter for a multiple employer plan.

Respondents: Businesses or other for-profit institutions.

Estimated Total Burden Hours: 5,115,000 hours.

OMB Number: 1545-0229.

Type of Review: Extension.

Title: Short Form Application for Determination for Minor Amendment of Employee Benefit Plan.

Form: 6406.

Description: This form is used by certain employee plans who want a determination letter or an amendment to the plan. The information gathered will be used to decide whether the plan is qualified under section 401(a).

Respondents: Businesses and other for-profits.

Estimated Total Burden Hours: 538,250 hours.

OMB Number: 1545-1476.

Type of Review: Extension.

Title: INTL-3-95 (Final) Source of Income From Sales of Inventory and Natural Resources Produced in One Jurisdiction and Sold in Another Jurisdiction.

Description: The information requested is necessary for the Service to audit taxpayers' returns to ensure taxpayers have properly determined the source of income from sales of inventory produced in one country and sold in another.

Respondents: Businesses or other for-profit institutions.

Estimated Total Burden Hours: 1,125 hours.

OMB Number: 1545-0633.

Type of Review: Extension.

Title: Notices 437, 437-A, 438 and 466, Notice of Intention to Disclose.

Description: Notice is required by 26 U.S.C. 6110(f). A reply is necessary if the recipient disagrees with the Service's proposed deletions. The Service uses the reply to consider the propriety of making additional deletions to the public inspection version of written determinations or related background file documents.

Respondents: Individuals or households.

Estimated Total Burden Hours: 2,625 hours.

OMB Number: 1545-1384.

Type of Review: Extension.

Title: Taxpayer Statement Regarding Refund.

Form: 3911.

Description: If taxpayer inquires about their non-receipt of refund (or lost or stolen refund) and the refund has been issued, the information and taxpayer signature are needed to begin tracing action.

Respondents: Individuals or households.

Estimated Total Burden Hours: 46,160 hours.

OMB Number: 1545-1821.

Type of Review: Extension.

Title: REG-148867-03 (Final) Disclosure of Returns and Return Information in Connection with Written Contracts or Agreements for the Acquisition of Property and Services for Tax Administration.

Description: The regulations clarify that redisclosures of returns and return information by contractors to agents or subcontractors are permissible, and that the penalty provisions, written notification requirements, and safeguard requirements are applicable to these agents and subcontractors. Section 301.6103(n)-1(d) of the proposed regulations require that contractors, agents, and subcontractors who receive returns or return information under the proposed regulations must provide written notice to their officers and employees of the purposes for which returns or return information may be used and of the potential civil and criminal penalties for unauthorized inspections or disclosures, including informing them of the imposition of punitive damages in the case of a willful inspection or disclosure or an inspection or disclosure which is the result of gross negligence. Section 301.6103(n)-1(e)(3) of the proposed regulations require that before the execution of a contract or agreement for the acquisition of property or services under which returns or return information will be disclosed, the contract or agreement must be made available to the IRS.

Respondents: Businesses or other for-profit institutions.

Estimated Total Burden Hours: 250 hours.

OMB Number: 1545-1642.

Type of Review: Extension.

Title: REG-104072-97 (Final) Recharacterizing Financing Arrangements Involving Fast-Pay Stock.

Description: Section 1.7701(I)-3 recharacterizes fast-pay arrangements. Certain participants in such arrangements must file a statement that includes the name of the corporation that issued the fast-pay stock, and (to the extent the filing taxpayer knows or has reason to know) the terms of the fast-pay stock, the date on which it was issued, and the names and taxpayer identification numbers of any shareholders of any class of stock that is not traded on an established securities market.

Respondents: Businesses or other for-profit institutions.

Estimated Total Burden Hours: 50 hours.

OMB Number: 1545-2081.

Type of Review: Extension.

Title: Form 8879-EX, IRS e-file Signature Authorization for Forms 720, 2290, and 8849.

Form: 8879-EX.

Description: The Form 8879-EX, IRS e-file Signature Authorization for Forms 720, 2990, and 8849, will be used in the Modernized e-File program. Form 8879-EX authorizes an a taxpayer and an electronic return originator (ERO) to use a personal identification number (PIN) to electronically sign an electronic excise tax return and, if applicable, authorize an electronic funds withdrawal.

Respondents: Businesses or other for-profit institutions.

Estimated Total Burden Hours: 46,800 hours.

OMB Number: 1545-1349.

Type of Review: Extension.

Title: Cognitive and Psychological Research.

Description: This research improves the quality of the data collection by examining the psychological and cognitive aspects of methods and procedures such as: interviewing processes, forms redesign, survey and tax collection technology and operating procedures (internal and external in nature).

Respondents: Individuals or households.

Estimated Total Burden Hours: 37,500 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503,

Robert Dahl,
Treasury PRA Clearance Officer.

[FR Doc. E8-620 Filed 1-15-08; 8:45 am]

BILLING CODE 4830-01-P